DEPARTMENT OF STATE

22 CFR Part 41

[Public Notice: 10726]

RIN 1400-AD93

Visa Information Update Requirements Under the Electronic Visa Update System (EVUS)

AGENCY: Department of State.

ACTION: Final rule; confirmation of effective date.

SUMMARY: The Department of State is confirming the effective date of November 29, 2016, for the final rule that published in the Federal Register of October 26, 2016, instituting a requirement for nonimmigrant aliens who hold a passport issued by an identified country containing a U.S. nonimmigrant visa of a designated category to provide required information to DHS after the receipt of his or her visa of a designated category.

DATES: The effective date of final rule published in the Federal Register of October 20, 2016 (81 FR 72522), is confirmed: November 29, 2016.

FOR FURTHER INFORMATION CONTACT: Taylor Beaumont, Acting Division Chief, U.S. Department of State, Office of Legislation and Regulations, CA/VO/L/R, 600 19th Street NW, Washington, DC 20522, (202) 485-8910, VisaRegs@state.gov.

SUPPLEMENTARY INFORMATION: The Department published a final rule, Public Notice 9530 at 81 FR 72522, October 20, 2016, with a request for comments, amending sections of part 41 of title 22 of the Code of Federal Regulations. The rule provided modifications to the visa revocation regulations, which, with the the DHS rule amending 8 CFR part 215, subpart B (RIN 1651-AB08), created the Electronic Visa Update System (EVUS). As provided in 8 CFR part 215, subpart B, EVUS is an online information update system that requires nonimmigrant aliens who hold a passport issued by an identified country containing a U.S. nonimmigrant visa of a designated category to enroll in EVUS by providing information to DHS after the receipt their visa. The final rule became effective on November 29, 2016, and remains unchanged.

Analysis of Comments:The final rule was published with request for comments on October 20, 2016, Vol. 81, No. 203, Page 72522. The comment period closed on December 19, 2016. The Department received one non-responsive comment to the final rule. As the comment was non-responsive, it does not provide a basis to reconsider the rule.

List of Subjects in 22 CFR Part 41

Aliens, Foreign officials, Immigration, Passports and visas, Students.

Regulatory Findings

The Regulatory Findings included in the final rule are incorporated herein.

Executive Order 13771

This rule is not subject to the requirements of E.O. 13771 (82 FR 9339, February 3, 2017) because it is issued with respect to a foreign affairs function of the United States.

Accordingly, for the reasons stated in the preamble, the final rule published on October 20, 2016, remains unchanged, and the amendments issued in the final rule became effective on November 29, 2016. See 81 FR at 72523.

Carl C. Risch,
Assistant Secretary, Consular Affairs, U.S. Department of State.

[FR Doc. 2019-10528 Filed 5-20-19; 8:45 am]

BILLING CODE 4710-06-P